DEPARTMENT OF ENERGY

Federal Energy Regulatory Commission

Combined Notice of Filings #1

Take notice that the Commission received the following electric corporate filings:

Docket Numbers: EC13-78-000.

Applicants: Plains End LLC, Plains End II, LLC, Rathdrum Power, LLC.

Description: Application of Plains End, LLC, et al. under FPA 203 and Requesting Expedited Treatment.

Filed Date: 3/8/13.

Accession Number: 20130308-5223.

Comments Due: 5 p.m. ET 3/29/13.

Take notice that the Commission received the following exempt wholesale generator filings:

Docket Numbers: EG13-18-000.

Applicants: Goldthwaite Wind Energy LLC.

Description: Notice of Self-Certification of Exempt Wholesale Generator Status of Goldthwaite Wind Energy LLC.

Filed Date: 3/7/13.

Accession Number: 20130307-5125.

Comments Due: 5 p.m. ET 3/28/13.

Take notice that the Commission received the following electric rate filings:

Docket Numbers: ER13-1059-000.

Applicants: Southern California Edison Company.

Description: Southern California Edison Company submits tariff filing per 35.13(a)(2)(iii: Amendment to Exhibit A of WDAT Service Agreement with SCE-RAP for CREST to be effective 5/8/2013.

Filed Date: 3/8/13.

Accession Number: 20130308-5174.

Comments Due: 5 p.m. ET 3/29/13.

Docket Numbers: ER13-1060-000.

Applicants: California Independent System Operator Corporation.

Description: California Independent System Operator Corporation submits tariff filing per 35.13(a)(2)(iii: 2013-03-08 Transmission Constraint Relaxation to be effective 5/10/2013.

Filed Date: 3/8/13.

Accession Number: 20130308-5189.

Comments Due: 5 p.m. ET 3/29/13.

Docket Numbers: ER13-1061-000.

Applicants: Southwest Power Pool, Inc.

Description: Southwest Power Pool, Inc. submits tariff filing per 35.13(a)(2)(iii: Revisions to Attachment H—Addendum 6—Lincoln Electric System to be effective 1/1/2013.

Filed Date: 3/8/13.

Accession Number: 20130308-5190.

Comments Due: 5 p.m. ET 3/29/13.

Docket Numbers: ER13-1062-000.

Applicants: Copper Mountain Solar 1, LLC.

Description: Copper Mountain Solar 1, LLC submits tariff filing per 35.13(a)(2)(iii: Copper Mountain Solar 1 LLC Joint Use Amendment to be effective 4/25/2013.

Filed Date: 3/8/13.

Accession Number: 20130308-5191.

Comments Due: 5 p.m. ET 3/29/13.

Docket Numbers: ER13-1063-000.

Applicants: Copper Mountain Solar 2, LLC.

Description: Copper Mountain Solar 2, LLC submits tariff filing per 35.13(a)(2)(iii: Copper Mountain Solar 2 LLC Concurrence to Joint Use Amendment to be effective 4/25/2013.

Filed Date: 3/8/13.

Accession Number: 20130308-5194.

Comments Due: 5 p.m. ET 3/29/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 11, 2013.
Nathaniel J. Davis, Sr.,
Deputy Secretary.

[FR Doc. 2013-06258 Filed 3-18-13; 8:45 am]

BILLING CODE 6717-01-P